DEPARTMENT OF LABOR

Occupational Safety and Health Administration

[Docket No. OSHA-2007-0042]

TUV Rheinland of North America, Inc.; Expansion of Recognition

AGENCY: Occupational Safety and Health Administration (OSHA), Labor.

ACTION: Notice.

SUMMARY: This notice announces the Occupational Safety and Health Administration's final decision expanding the recognition of TUV Rheinland of North America, Inc., as a Nationally Recognized Testing Laboratory under 29 CFR 1910.7.

DATES: The expansion of recognition becomes effective on March 26, 2013.

FOR FURTHER INFORMATION CONTACT: David W. Johnson, Director, Office of Technical Programs and Coordination Activities, NRTL Program, Occupational Safety and Health Administration, U.S. Department of Labor, 200 Constitution Avenue NW., Room N-3655, Washington, DC 20210, or phone (202) 693-1973.

SUPPLEMENTARY INFORMATION:

Notice of Final Decision

The Occupational Safety and Health Administration (“OSHA” or “Agency”) hereby gives notice of the expansion of recognition of TUV Rheinland of North America, Inc. (“TUV”), as a Nationally Recognized Testing Laboratory (“NRTL”). TUV's expansion covers the addition of a new site and the use one additional test standard. OSHA's current scope of recognition for TUV is available at the following informational Web page: http://www.osha.gov/dts/otpca/nrtl/tuv.html.

OSHA recognition of an NRTL signifies that the organization meets the requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from our Web site at http://www.osha.gov/dts/otpca/nrtl/index.html.

TUV submitted an application, dated February 24, 2006 (see Exhibit 1, TUV Application, as cited in the preliminary notice), to expand its recognition to include one additional site, located at 2324 Ridgepoint Drive, Suite E, Austin, Texas 78754, and one additional test standard. In response to OSHA's requests for clarification, TUV amended its application to provide additional technical details, and then provided further details in a later update (Ex. 2: TUV Amended Application dated 8/22/2007 and 2/10/2009, as cited in the preliminary notice). The NRTL Program staff determined that the additional test standard is an “appropriate test standard” within the meaning of 29 CFR 1910.7(c). In connection with this request, OSHA performed an on-site review of TUV's NRTL testing facility in August 2010 and recommended expansion of TUV's recognition to include the one additional facility listed above, and recommended expansion of TUV's recognition to include the one additional test standards listed below (Ex. 2).

OSHA published the preliminary notice announcing TUV's expansion application in the Federal Register on July 24, 2012 (77 FR 43370). The Agency requested comments by August 8, 2012, but it received no comments in response to this notice. OSHA now is proceeding with this final notice to grant TUV's expansion application.

You may obtain or review copies of all public documents pertaining to the TUV application by contacting the Docket Office, Occupational Safety and Health Administration, U.S. Department of Labor, 200 Constitution Avenue NW., Room N-2625, Washington, DC 20210. Docket No. OSHA-2007-0042 contains all materials in the record concerning TUV's recognition.

The current address of the TUV facility (site) already recognized by OSHA is: TUV Rheinland of North America, Inc., 12 Commerce Road, Newton, CT 06470.

Final Decision and Order

The NRTL Program staff examined TUV's expansion application, the assessor's recommendation, and other pertinent information. Based on its review of this evidence, OSHA finds that TUV meets the requirements of 29 CFR 1910.7 for expansion of its recognition, subject to the limitation and conditions listed below. Pursuant to the authority in 29 CFR 1910.7, OSHA hereby expands the recognition of TUV, subject to this limitation and these conditions.

Limitation

OSHA limits the expansion of TUV's recognition to testing and certification of products for demonstration of conformance to the following test standard, which OSHA determined is an appropriate test standard, within the meaning of 29 CFR 1910.7(c):

UL 913: Intrinsically Safe Apparatus and Associated Apparatus for Use in Class I, II, and III, Division 1, Hazardous Locations

The designation and title of the above-mentioned test standard was current at the time of the preparation of the preliminary notice.

OSHA limits recognition of TUV, or any NRTL, for a particular test standard to equipment or materials (i.e., products) for which OSHA standards require third-party testing and certification before use of the products in the workplace. Consequently, if a test standard also covers any product(s) for which OSHA does not require such testing and certification, an NRTL's scope of recognition does not include that product(s).

The American National Standards Institute (ANSI) may approve the test standard listed above as American National Standards. However, for convenience, we use the designation of the standards-developing organization for the standard, as opposed to the ANSI designation. Under OSHA's NRTL procedures, any NRTL recognized for an ANSI-approved test standard may use either the latest proprietary version of the test standard or the latest ANSI version of that standard. Interested parties may contact ANSI to determine whether or not a test standard is currently ANSI approved.

Conditions

TUV also must abide by the following conditions of the recognition, in addition to those conditions already required by 29 CFR 1910.7:

1. TUV must allow OSHA access to TUV's facilities and records for purposes of ascertaining continuing compliance with the terms of its recognition, and to conduct investigations that OSHA deems necessary;

2. If TUV has reason to doubt the efficacy of any test standard it is using under the NRTL Program, it must promptly inform the test standard-developing organization of this concern and provide that organization with appropriate relevant information upon which it bases its concern;

3. TUV must not engage in, or permit others to engage in, any misrepresentation of the scope or conditions of its recognition. As part of this condition, TUV agrees that it will allow no representation that it is either a recognized or an accredited NRTL without clearly indicating the specific equipment or material for which it has recognition, or that its recognition is limited to specific products;

4. TUV must inform OSHA as soon as possible, in writing, of any change of ownership, facilities, or key personnel, and of any major change in its operations as an NRTL, and provide details of the change(s);

5. TUV must meet all the terms of its recognition and comply with all OSHA policies pertaining to this recognition; and

6. TUV must continue to meet the requirements for recognition in all areas for which it has recognition.

Authority and Signature

David Michaels, Ph.D., MPH, Assistant Secretary of Labor for Occupational Safety and Health, 200 Constitution Avenue NW., Washington, DC 20210, authorized the preparation of this notice. Accordingly, the Agency is issuing this notice pursuant to Section 8(g)(2) of the Occupational Safety and Health Act of 1970 (29 U.S.C. 657(g)(2)), Secretary of Labor's Order No. 1-2012 (77 FR 3912, Jan. 25, 2012), and 29 CFR 1910.7.

Signed at Washington, DC, on March 20, 2013.
David Michaels,
Assistant Secretary of Labor for Occupational Safety and Health.

[FR Doc. 2013-06791 Filed 3-25-13; 8:45 am]

BILLING CODE 4510-26-P